DEPARTMENT OF THE INTERIOR

National Park Service

[NPS-WASO-NAGPRA-NPS0039249; PPWOCRADN0-PCU00RP14.R50000]

Notice of Intended Disposition: U.S. Department of Agriculture, Forest Service, Carson National Forest, Taos, NM

AGENCY: National Park Service, Interior.

ACTION: Notice.

SUMMARY: In accordance with the Native American Graves Protection and Repatriation Act (NAGPRA), the U.S. Department of Agriculture, Forest Service, Carson National Forest (CAF), intends to carry out the disposition of objects of cultural patrimony removed from Federal or Tribal lands to the lineal descendants, Indian Tribe, or Native Hawaiian organization with priority for disposition in this notice.

DATES: Disposition of the cultural items in this notice may occur on or after January 29, 2025. If no claim for disposition is received by December 30, 2025, the cultural items in this notice will become unclaimed cultural items.

ADDRESSES: Erin E. Brown, Forest Archeologist, USDA Forest Service, Carson National Forest, 208 Cruz Alta Road, Taos, NM 87571, telephone (575) 779-4827, email erin.brown@usda.gov.

SUPPLEMENTARY INFORMATION: This notice is published as part of the National Park Service's administrative responsibilities under NAGPRA. The determinations in this notice are the sole responsibility of the CAF, and additional information on the cultural items in this notice, including the results of consultation, can be found in the related records. The National Park Service is not responsible for the identifications in this notice.

Abstract of Information Available

Based on the information available, seven objects of cultural patrimony include a small Dinetah Grayware jar, a wooden feather effigy, and five wooden cradle board pieces. The Dinetah Grayware pot has flat to slightly concave base, with some striations on the surface of the vessel. At the time of discovery, the wooden feather effigy was resting on top of the vessel. Both items were located in a crevice under a large sandstone boulder, and the items had been walled in with thin sandstone slabs and adobe. Approximately 35 feet north of the first crevice, a second crevice contained the five wooden cradleboard pieces. The seven items were found in two crevices, separated by approximately 35 feet, in 1991 by a member of the public. The items were removed from site AR-03-02-03-00524 in Pueblita Canyon located within the Jicarilla Ranger District of the Carson National Forest, Rio Arriba County, New Mexico.

Determinations

The CAF has determined that:

• The seven objects of cultural patrimony described in this notice have ongoing historical, traditional, or cultural importance central to the Native American group, including any constituent sub-group (such as a band, clan, lineage, ceremonial society, or other subdivision), according to the Native American traditional knowledge of an Indian Tribe or Native Hawaiian organization.

• The Navajo Nation, Arizona, New Mexico, & Utah has priority for disposition of the cultural items described in this notice.

Claims for Disposition

Written claims for disposition of the cultural items in this notice must be sent to the appropriate official identified in this notice under ADDRESSES. If no claim for disposition is received by December 30, 2025, the cultural items in this notice will become unclaimed cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the cultural items in this notice may occur on or after January 29, 2025. If competing claims for disposition are received, the CAF must determine the most appropriate claimant prior to disposition. Requests for joint disposition of the cultural items are considered a single request and not competing requests. The CAF is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: December 19, 2024.
Melanie O'Brien,
Manager, National NAGPRA Program.

[FR Doc. 2024-31286 Filed 12-27-24; 8:45 am]

BILLING CODE 4312-52-P